DEPARTMENT OF AGRICULTURE

Office of Partnerships and Public Engagement

Advisory Committee on Minority Farmers; Conference Call Meeting

AGENCY: Office of Partnerships and Public Engagement, USDA.

ACTION: Notice of meeting.

SUMMARY: Notice is hereby given, pursuant to the provisions of the rules and regulations of the Department of Agriculture and the Federal Advisory Committee Act (FACA), that a public teleconference of the Advisory Committee on Minority Farmers (ACMF) will be held to discuss USDA outreach, technical assistance, and capacity building for and with minority farmers; the implementation of the Socially Disadvantaged and Veteran Farmer and Rancher Grant Program (2501 Program); and methods of maximizing the participation of minority farmers and ranchers in the U.S. Department of Agriculture; and to plan mechanisms for best providing advice to the Secretary on the issues outlined above.

DATES: The conference begins at 1:00 p.m. Central Time on April 7, 2021; you may join the conference 10 minutes prior.

ADDRESSES:

Step 1: Dial into the conference.

Dial-in: 888-251-2949 or 215-861-0694

Access Code: 4511838#

Need an international dial-in number?

Step 2: Join the conference on your computer.

Entry Link: https://ems8.intellor.com/login/837630

When you access the entry link above, you will be provided a choice—to install the WebEx plug-in for your preferred browser or to join the web conference using a temporary path. Either option is acceptable.

Need technical assistance?

Audio Connection: 1-888-796-6118

WebEx Connection: 1-888-793-6118

Please be advised that before being placed into the conference call, the operator will ask callers to provide their names, their organizational affiliations (if any), and email addresses (so that callers may be notified of future meetings). Callers can expect to incur charges for calls they initiate over wireless lines, and the USDA will not refund any incurred charges. Callers will incur no charge for calls they initiate over land-line connections to the toll-free conference call-in number.

Public Comments: Written comments for the Committee's consideration may be submitted to email: ACMF@usda.gov. Written comments must be received by April 6, 2021.

Availability of Materials for the Meeting: General information about the ACMF as well as any updates concerning the meeting announced in this notice, may be found on the ACMF website at https://www.usda.gov/partnerships/advisory-committee-on-minority-farmers.

Accessibility: USDA is committed to ensuring that all persons are included in our programs and events. If you are a person with a disability and require reasonable accommodations to participate in this meeting Please contact Eston Williams at Eston.Williams@usda.gov or (202) 596-0226.

Individuals who use telecommunication devices for the deaf (TDD) may call the Federal Information Relay Service (FIRS) at 1-800-877-8339 between 8:00 a.m. and 8:00 p.m., Eastern Standard Time, Monday through Friday.

FOR FURTHER INFORMATION CONTACT: General information about the committee can also be found at https://www.usda.gov/partnerships/advisory-committee-on-minority-farmers. Any member of the public wishing to obtain information concerning this public meeting may contact Eston Williams, Designated Federal Officer (DFO), at Eston.Williams@usda.gov or at (202) 596-0226.

SUPPLEMENTARY INFORMATION: Background: The Committee was established in the U.S. Department of Agriculture pursuant to section 14008 of the Food Conservation and Energy Act of 2008, Public Law 110-246, 122 Stat. 1651, 2008 (7 U.S.C. 2279).

The Committee works in the interest of the public to ensure socially disadvantaged farmers have equal access to USDA programs. The Committee advises the Secretary on the implementation of section 2501 of the Food, Agriculture, Conservation, and Trade Act of 1990; methods of maximizing the participation of minority farmers and ranchers in U.S. Department of Agriculture programs; and civil rights activities within the Department, as such activities relate to participants in such programs.

Dated: March 16, 2021.
Cikena Reid,
USDA Committee Management Officer.

[FR Doc. 2021-05924 Filed 3-22-21; 8:45 am]

BILLING CODE 3412-88-P